DEPARTMENT OF DEFENSE

Department of the Army; Corps of Engineers

Request for Comments on the Draft Feasibility Report and Environmental Impact Statement/Environmental Impact Report for the Lower Cache Creek, Yolo County, CA, City of Woodland and Vicinity, for Potential Flood Damage Reduction Report

AGENCY: Department of the Army, U.S. Army Corps of Engineers, DoD.

ACTION: Extension of comment period.

SUMMARY: The Corps of Engineers is extending the comment period for the draft “Feasibility Report and Environmental Impact Statement/Environmental Impact Report for the Lower Cache Creek, Yolo County, CA, City of Woodland and Vicinity, for Potential Flood Damage Reduction Report.” This extension will provide interested persons with additional time to prepare comments.

DATES: Consideration will be given only to comments that are received on or before June 4, 2003.

ADDRESSES: Send comments to Patti Johnson, USACE, Sacramento District (CESPK-PD), 1325 J Street, Sacramento, CA 95814-2922 or to Karen Enstrom, Department of Water Resources, Division of Flood Management, 3310 El Camino Ave., Sacramento, CA 95821-6340. See SUPPLEMENTARY INFORMATION section for electronic filing address.

FOR FURTHER INFORMATION CONTACT: Patti Johnson, USACE, Sacramento, California at (916) 557-6611; or Karen Enstrom, Department of Water Resources, Division of Flood Management at (916) 574-0372.

SUPPLEMENTARY INFORMATION: On March 21, 2003 we published in the Federal Register (67 FR 13907) the “Draft Feasibility Report and Environmental Impact Statement/Environmental Impact Report for the Lower Cache Creek, Yolo County, CA, City of Woodland and Vicinity, for Potential Flood Damage Reduction Report.” Comments regarding the reports were required to be received on or before May 5, 2003. During the comment period, we received requests to extend the comment period.

In response to these requests, we are extending the comment for the reports through June 4, 2003.

Electronic Filing Addresses: You may submit comments by E-mail to either patti.p.johnson@usace.army.mil or to kenstrom@water.ca.gov.

Luz D. Ortiz,
Army Federal Register Liaison Officer.

[FR Doc. 03-10685 Filed 4-29-03; 8:45 am]

BILLING CODE 3710-92-M